NUCLEAR REGULATORY COMMISSION

[Docket No. 50-368]

Entergy Operations, Inc., Arkansas Nuclear One, Unit 2; Notice of Issuance of Renewed Facility Operating License No. NPF-6 for an Additional 20-Year Period

Notice is hereby given that the U.S. Nuclear Regulatory Commission (Commission) has issued Renewed Facility Operating License No. NPF-6 to Entergy Operations, Inc. (licensee), the operator of the Arkansas Nuclear One, Unit 2 (ANO-2). Renewed Facility Operating License No. NPF-6 authorizes operation of ANO-2 by the licensee at reactor core power levels not in excess of 3026 megawatts thermal (858 megawatts electric) in accordance with the provisions of the ANO-2 renewed license and its Technical Specifications.

The ANO-2 plant is a pressure water reactor located in Russellville, Arkansas.

The application for the renewed license complied with the standards and requirements of the Atomic Energy Act of 1954, as amended (the Act), and the Commission's regulations. As required by the Act and the Commission's regulations in Title 10 of the Code of Federal Regulations (10 CFR) Chapter 1, the Commission has made appropriate findings, which are set forth in the license. Prior public notice of the action involving the proposed issuance of the renewed license and of an opportunity for a hearing regarding the proposed issuance of this license was published in the Federal Register on November 24, 2003 (68 FR 65963).

For further details with respect to this action, see: (1) Entergy Operations, Inc.'s license renewal application for Arkansas Nuclear One, Unit 2, dated October 14, 2003, as supplemented by letters dated through May 2, 2005; (2) the Commission's safety evaluation report, NUREG-1828, dated June 20, 2005; (3) the licensee's updated safety analysis report; and (4) the Commission's final environmental impact statement, NUREG-1437, Supplement 19, for the Arkansas Nuclear One, Unit 2, dated April 22, 2005. These documents are available at the NRC's Public Document Room, One White Flint North, 11555 Rockville Pike, Rockville, Maryland 20852, and can be viewed from the NRC Public Electronic Reading Room at http://www.nrc.gov/reading-rm/adams.html.

Copies of Renewed Facility Operating License No. NPF-6, may be obtained by writing to the U.S. Nuclear Regulatory Commission, Washington, DC, 20555-0001, Attention: Director, Division of Regulatory Improvement Programs. Copies of the Arkansas Nuclear One, Unit 2 Safety Evaluation Report, NUREG-1828 and the final environmental impact statement, NUREG-1437, Supplement 19, may be purchased from the National Technical Information Service (NTIS), U.S. Department of Commerce, Springfield, VA 22161 (http://www.ntis.gov), 703-605-6000, or Attention: Superintendent of Documents, U.S. Government Printing Office, P.O. Box 371954, Pittsburgh, PA 15250-7954 (http://www.gpoaccess.gov), 202-512-1800. All orders should clearly identify the NRC publication number and the requestor's Government Printing Office deposit account number or VISA or MasterCard number and expiration date.

Dated at Rockville, Maryland, this 30th day of June, 2005.
For the Nuclear Regulatory Commission.
Pao-Tsin Kuo,
Program Director, License Renewal and Environmental Impacts Program, Division of Regulatory Improvement Programs, Office of Nuclear Reactor Regulation.

[FR Doc. 05-13723 Filed 7-12-05; 8:45 am]

BILLING CODE 7590-01-P